ENVIRONMENTAL PROTECTION AGENCY

[EPA-R01-OW-2008-0919; FRL-8781-9]

Maine Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the waters of Boothbay Harbor.

ADDRESSES: Docket: All documents in the docket are listed in the http://www.regulations.gov index. Although listed in the index, some information is not publicly available, e.g., CBI or other information whose disclosure is restricted by statute. Certain other material, such as copyrighted material, will be publicly available only in hard copy. Publicly available docket materials are available electronically in http://www.regulations.gov.

FOR FURTHER INFORMATION CONTACT: Ann Rodney, U.S. Environmental Protection Agency—New England Region, One Congress Street, Suite 1100, COP, Boston, MA 02114-2023. Telephone: (617) 918-0538. Fax number: (617) 918-1505. E-mail address: rodney.ann@epa.gov.

SUPPLEMENTARY INFORMATION:

On January 5, 2009, EPA published a notice that the state of Maine had petitioned the Regional Administrator, Environmental Protection Agency, to determine that adequate facilities for the safe and sanitary removal and treatment of sewage from all vessels are reasonably available for the waters of Boothbay Harbor. One comment was received on this petition. The response to comments can be obtained utilizing the above contact information.

The petition was filed pursuant to Section 312(f)(3) of Public Law 92-500, as amended by Public Laws 95-217 and 100-4, for the purpose of declaring these waters a No Discharge Area (NDA).

Section 312 (f) (3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the waters of Boothbay Harbor. The NDA boundaries are as follows:

Waterbody/general area | Longitude | Latitude
From the USCG navigational buoy green bell “1C” off the light station “The Cuckholds” north to “Cape Newagen” | 69°39′38.57″ W | 43°47′8.75″ N
North to “Cameron Point” on the northwest end of “Townsend Gut” | 69°40′5.32″ W | 43°51′4.21″ N
North to the southern tip of “Indiantown Island” | 69°40′4.75″ W | 43°51′19.4″ N
North to the northern end of “Indiantown Island” | 69°40′3.45″ W | 43°51′57.73″ N
East to the head of navigation of unnamed stream | 69°38′9.31″ W | 43°51′17.33″ N
East to the head of navigation of unnamed stream | 69°37′24.62″ W | 43°51′8.04″ N
East to the head of navigation of unnamed stream | 69°36′50.93″ W | 43°51′4.99″ N
East to the northern end of “Linekin Bay” | 69°35′26.86″ W | 43°51′42.94″ N
South to the western point of “Ocean Point” | 69°36′16.39″ W | 43°48′50.14″ N
Southwest in a straight line to USCG navigational buoy green bell “1C” off the light station “The Cuckholds” | 69°39′0.09″ W | 43°46′22.55″ N

The proposed NDA includes the municipal waters of Boothbay Harbor.

The information submitted to EPA by the state of Maine certifies that there are six pumpout facilities located within this area. A list of the facilities, with phone numbers, locations, and hours of operation is appended at the end of this determination.

Based on the examination of the petition, and its supporting documentation, EPA has determined that adequate facilities for the safe and sanitary removal and treatment of sewage from all vessels are reasonably available for the area covered under this determination.

This determination is made pursuant to Section 312(f)(3) of Public Law 92-500, as amended by Public laws 95-217 and 100-4.

Pumpout Facilities Within Proposed No Discharge Area—Boothbay Harbor
Name | Location | Contact info. | Hours | Mean low water depth
Harbormaster | Boothbay Harbor | 207-633-3671 VHF 16 | 6 a.m.-8 p.m. | N/A.
Carousel Marina | Boothbay Harbor | 207-633-2922 VHF 9 | 8 a.m.-5 p.m., 7days | 10 ft .
Brown's Wharf | Boothbay Harbor | 207-633-5440 VHF 9 | 8 a.m.-5 p.m., 7 days | 15 ft.
Cap'n Fish's Marina | Boothbay Harbor | 207-633-3244 VHF 9 | 8 a.m.-5 p.m., 7 days | 15 ft.
Tugboat Inn and Marina | Boothbay Harbor | 207-633-4434 VHF 9 | 10 a.m.-2 p.m., 7 days | 8 ft.
Signal Point Marina | Boothbay Harbor | 207-633-6920 | 24/7 Self Service | 8 ft.

Dated: March 5, 2009.
Ira W. Leighton,
Acting Regional Administrator, New England Region.

[FR Doc. E9-6665 Filed 3-24-09; 8:45 am]

BILLING CODE 6560-50-P